DEPARTMENT OF TRANSPORTATION

Federal Aviation Administration

14 CFR Part 71

[Docket No. FAA-2003-16079; Airspace Docket No. 03-ACE-71]

Establishment of Class E4 Airspace; and Modification of Class E5 Airspace; Goodland, KS

AGENCY: Federal Aviation Administration (FAA), DOT.

ACTION: Final rule; correction.

SUMMARY: This action corrects a Final rule that was published in the Federal Register on Friday, November 14, 2003, (68 FR 64524) [FR Doc. 03-38538]. It corrects an error in the classification of a Goodland, KS Class E airspace area.

DATES: This direct final rule is effective on 0901 UTC, December 25, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On Monday, September 22, 2003, the FAA proposed to amend 14 CFR part 71 by establishing a Class E airspace area designated as an extension to the Class E surface area and revising the Class E airspace area extending upward from 700 feet or more above the surface at Goodland, KS (68 FR 55015) [FR Doc. 03-24143]. Interested parties were invited to participate in this rulemaking proceeding by submitting written comments on the proposal to the FAA. No comments objecting to the proposal were received and a Final rule was subsequently published in the Federal Register on Friday, November 14, 2003, (68 FR 64524) [FR Doc. 03-28538].

A determination has been made that airspace comprising the extension to the Goodland, KS Class E surface area was necessary and properly established. However, this airspace area was erroneously categorized as an extension to the Class E surface area (E4) when it should have been added to the existing Class E airspace designated as a surface area (E2). This correction has no effect on the dimensions or definition of controlled airspace established by the rule, it merely identifies the extension as part of the basic surface area.

Accordingly, pursuant to the authority delegated to me, the Goodland, KS Class E4 airspace, as published in the Federal Register on Friday, November 14, 2003, (68 FR 64524) [FR Doc. 03-28538] is corrected as follows:

§ 71.1 [Corrected]

1. On page 64524, column 3, following amendatory instruction 2, revise “Paragraph 6004 Class E airspace areas designated as an extension to Class D or Class E Surface area” to read “Paragraph 6002 Class E Airspace Designated as Surface Areas.”

2. On page 64524, column 3, following amendatory instruction 2, revise:

“ACE KS E4 Goodland, KS

Renner Field-Goodland Municipal Airport, KS

(Lat. 39°22′14″N., long. 101°41′56″W.)

Goodland VORTAC

(Lat. 39°23′16″N., long. 101°41′32″W.)

That airspace extending upward from the surface within 2.4 miles each side of the Goodland VORTAC 164° radial extending from the 4.1-mile radius of Renner Field-Goodland Municipal Airport to 7 miles southeast of the VORTAC.” to read:

“ACE KS E2 Goodland, KS

Renner Field-Goodland Municipal Airport, KS

(Lat. 39°22′14″N., long. 101°41′56″W.)

Goodland VORTAC

(Lat. 39°23′16″N., long. 101°41′32″W.)

Within a 4.1-mile radius of Renner Field-Goodland Municipal Airport and within 2.4 miles each side of the Goodland VORTAC 164° radial extending from the 4.1-mile radius of the airport to 7 miles southeast of the VORTAC.”

Issued in Kansas City, MO, on November 24, 2003.
Paul J. Sheridan,
Acting Manager, Air Traffic Division, Central Region.

[FR Doc. 03-30459 Filed 12-8-03; 8:45 am]

BILLING CODE 4910-13-M